DEPARTMENT OF STATE

[Public Notice: 8092]

Department of State Performance Review Board Members

In accordance with section 4314(c)(4) of 5 United States Code, the Department of State has appointed the following individuals to the Department of State Performance Review Board for Senior Executive Service members: Mary E. McLeod, Chairperson, Principal Deputy Legal Advisor, Office of the Legal Adviser, Department of State; Kevin P. O'Keefe, Director, Office of Plans, Policy, and Analysis, Bureau of Political-Military Affairs, Department of State; David A. Balton, Deputy Assistant Secretary, Bureau of Oceans and International Environmental and Scientific Affairs, Department of State; Raymond D. Maxwell, Deputy Assistant Secretary, Bureau of Near Eastern Affairs, Department of State.

Dated: November 19, 2012.
Linda Thomas-Greenfield,
Director General of the Foreign Service and Director of Human Resources, Department of State.

[FR Doc. 2012-28769 Filed 11-26-12; 8:45 am]

BILLING CODE 4710-15-P